DEPARTMENT OF COMMERCE

International Trade Administration

[A-570-933]

Frontseating Service Valves From the People's Republic of China: Extension of Time for the Final Results of the Antidumping Duty Administrative Review

AGENCY: Import Administration, International Trade Administration, Department of Commerce.

DATES: Effective Date: August 24, 2011.

FOR FURTHER INFORMATION CONTACT: Laurel LaCivita, AD/CVD Operations, Office 8, Import Administration, International Trade Administration, U.S. Department of Commerce, 14th Street and Constitution Avenue, NW., Washington, DC 20230; telephone: (202) 482-4243.

Background

On May 9, 2011, the Department of Commerce (“the Department”) published the preliminary results of this administrative review for the period October 22, 2008, to March 31, 2010. See Frontseating Service Valves from the People's Republic of China: Preliminary Results of the 2008-2010 Antidumping Duty Administrative Review and Partial Rescission of Review, 76 FR 26686 (May 9, 2011). The final results of review are currently due on September 6, 2011.

Extension of Time Limits for the Final Results of Review

Section 751(a)(3)(A) of the Tariff Act of 1930, as amended (“the Act”), requires the Department to issue final results within 120 days after the date on which the preliminary results are published. However, if it is not practicable to complete the review within this time period, section 751(a)(3)(A) of the Act allows the Department to extend the time period to a maximum of 180 days. Completion of the final results of the administrative review within the 120-day period is not practicable because the Department requires additional time to analyze data submitted after the preliminary results, to allow time for parties to submit rebuttal information regarding changes to the Department's wage rate methodology, and to consider the arguments raised by the parties in the case and rebuttal briefs and provided at the hearing.

Because it is not practicable to complete this review within the time specified under the Act, we are extending the time period for issuing the final results of the administrative review to 180 days, until November 5, 2011, in accordance with section 751(a)(3)(A) of the Act. However, where a deadline falls on a weekend or federal holiday, the appropriate deadline is the next business day. See Notice of Clarification: Application of “Next Business Day” Rule for Administrative Determination Deadlines Pursuant to the Tariff Act of 1930, As Amended, 70 FR 24533 (May 10, 2005). Accordingly, the final results of review will be due no later than November 7, 2011.

We are publishing this notice pursuant to sections 751(a) and 777(i) of the Act.

Dated: August 16, 2011.
Christian Marsh,
Deputy Assistant Secretary for Antidumping and Countervailing Duty Operations.

[FR Doc. 2011-21673 Filed 8-23-11; 8:45 am]

BILLING CODE 3510-DS-P